DEPARTMENT OF THE INTERIOR

Bureau of Land Management

[LLWO220000.L63100000.PH0000 0113X]

Renewal of Approved Information Collection

AGENCY: Bureau of Land Management, Interior.

ACTION: 60-Day notice and request for comments.

SUMMARY: In compliance with the Paperwork Reduction Act, the Bureau of Land Management (BLM) invites public comments on its proposals to: (1) Request approval to continue the collection of information from persons who seek authorization for free use of mineral or vegetative materials; and (2) Use one form for vegetative materials, and a different form for mineral materials. The Office of Management and Budget (OMB) has assigned control number 1004-0001 to this information collection.

DATES: Please submit comments on the proposed information collection by April 1, 2013.

ADDRESSES: Comments may be submitted by mail, fax, or electronic mail.

Mail: U.S. Department of the Interior, Bureau of Land Management, 1849 C Street NW., Room 2134LM, Attention: Jean Sonneman, Washington, DC 20240.

Fax: to Jean Sonneman at 202-245-0050.

Electronic mail: Jean_Sonneman@blm.gov.

Please indicate “Attn: 1004-0001” regardless of the form of your comments.

FOR FURTHER INFORMATION CONTACT: Mike Bechdolt, at 202-912-7234 (vegetative materials); or George Brown, at 202-912-7118 (mineral materials) Persons who use a telecommunication device for the deaf may call the Federal Information Relay Service at 1-800-877-8339, to leave a message for Mr. Bechdolt or Mr. Brown.

SUPPLEMENTARY INFORMATION: OMB regulations at 5 CFR 1320, which implement provisions of the Paperwork Reduction Act, 44 U.S.C. 3501-3521, require that interested members of the public and affected agencies be given an opportunity to comment on information collection and recordkeeping activities (see 5 CFR 1320.8 (d) and 1320.12(a)). This notice identifies an information collection that the BLM plans to submit to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) The accuracy of the agency's burden estimates; (3) Ways to enhance the quality, utility and clarity of the information collection; and (4) Ways to minimize the information collection burden on respondents, such as use of automated means of collection of the information. A summary of the public comments will accompany our submission of the information collection requests to OMB.

Before including your address, phone number, email address, or other personal identifying information in your comment, you should be aware that your entire comment—including your personal identifying information—may be made publicly available at any time. While you can ask us in your comment to withhold your personal identifying information from public review, we cannot guarantee that we will be able to do so.

The following information is provided for the information collection:

Title: Free Use Application and Permit for Vegetative or Mineral Materials (43 CFR Parts 3600, 3620, and 5510).

OMB Control Number: 1004-0001.

Summary: The Bureau of Land Management (BLM) collects information from respondents for free use permits for vegetative or mineral materials in order to: (1) Determine whether the applicant is eligible for free use, (2) Determine whether the vegetative or mineral materials at issue qualify for free use; (3) Determine whether free use is consistent with pertinent land use plans and authorities; and; (4) Monitor the authorized removal and uses of vegetative and mineral materials to ensure sustainable resource management and verify that the actual use is consistent with the authorization. At present, the BLM uses the same form for free use of both vegetative and mineral materials. In this request, the BLM seeks approval to use one form for vegetative materials, and a different form for mineral materials.

Frequency of Collection On occasion.

Proposed Forms:

• Form 3604-1, Free Use Application and Permit For Mineral Materials; and

• Form 5510-1, Free Use Application and Permit for Vegetative Materials.

Description of Respondents: Individuals seeking authorization for free use of mineral or vegetative materials.

Estimated Annual Responses:

• 160 mineral materials applications; and

• 250 vegetative material applications.

Estimated Annual Burden Hours:

• 120 burden hours for mineral materials; and

• 125 burden hours for vegetative materials.

Estimated Annual Non-Hour Costs: None.

The estimated annual burdens of this collection are itemized below:

A. Type of response | B. Number of responses | C. Hours per response | D. Total hours (Column B × Column C)
Form 5510-1, Free Use Application and Permit For Vegetative Materials | 250 | 0.50 | 125
Form 3604-1, Free Use Application and Permit For Mineral Materials | 160 | 0.75 | 120
Totals | 410 |  | 245

Jean Sonneman,
Information Collection Clearance Officer, Bureau of Land Management.

[FR Doc. 2013-02102 Filed 1-30-13; 8:45 am]

BILLING CODE 4310-84-P